SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 24, 2010.

ADDRESSES: Send all comments regarding whether this information collection is necessary for the proper performance of the function of the agency, whether the burden estimates are accurate, and if there are ways to minimize the estimated burden and enhance the quality of the collection, to Kirk McElwain, Web Director, Office of Communications and Public Liaison, Small Business Administration, 409 3rd Street, 7th Floor, Washington, DC 20416.

FOR FURTHER INFORMATION CONTACT: Kirk McElwain, Office of Communications and Public Liaison, 202-205-6175 kirk.mcelwain@sba.gov, or Curtis B. Rich, Management Analyst, 202-205-7030, curtis.rich@sba.gov.

SUPPLEMENTARY INFORMATION: SBA plans to make its SBA.gov Web site more user-centric and focused on the needs of small businesses and lenders. The SBA would like the new site to incorporate innovative and meaningful online tools and features that effectively deliver information and services to lenders and small businesses, and enable businesses to gain necessary access to the capital and tools they need to drive economic recovery and create and retain jobs. It will enable entrepreneurs, small business owners, and lenders to save time and money by providing them with tools to find information they need from local, state, and federal government and a forum to learn from their peers and industry experts. The content and services delivered to SBA.gov users will be most valuable if they are relevant and specific to their needs. Without regular program information collections, SBA would be unable to determine these needs and efficiently meet them. Furthermore, this information collection will allow the SBA to deliver the Agency's core values of customer service, accountability, and transparency and carry out the intent of Executive Orders 12862. Absence of the information provided by willing participants would impact SBA's ability to carry out its mission and the mandates of Executive Order 12862, as well as President Obama's January 21, 2009, memorandum on transparency and open government.

Title: “SBA Direct and SBA Online Community.”

Description of Respondents: On Occasion.

Form Number: N/A.

Annual Responses: 710,000.

Annual Burden: 4,000.

Jacqueline White,
Chief, Administrative Information Branch.

[FR Doc. 2010-15367 Filed 6-24-10; 8:45 am]

BILLING CODE 8025-01-P